DEPARTMENT OF ENERGY

[Docket Nos. PP-66-2 and PP-82-3]

Application To Amend Presidential Permits; Vermont Electric Power Company, Inc.

AGENCY: Office of Fossil Energy, DOE.

ACTION: Notice of application.

SUMMARY: Vermont Electric Power Company, Inc. (VELCO) has applied to amend Presidential Permit PP-66 to change way the subject facilities are authorized to operate. VELCO also has applied to amend Presidential Permit PP-82 to change the names of the owners of the interconnection facilities and to increase the amount of power imports allowed over these facilities.

DATES: Comments, protests or requests to intervene must be submitted on or before November 10, 2003.

ADDRESSES: Comments, protests or requests to intervene should be addressed as follows: Office of Coal & Power Import/Export (FE-27), Office of Fossil Energy, U.S. Department of Energy, 1000 Independence Avenue, SW., Washington, DC 20585-0350 (FAX 202-318-7761).

FOR FURTHER INFORMATION CONTACT: Dr. Jerry Pell (Program Office) 202-586-3362, Jerry.Pell@hq.doe.gov, or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Upon issuance of such a Presidential permit, no material change may be made in the way the facilities are operated unless such change has been approved by the Department of Energy (DOE).

On June 21, 1979, DOE issued Presidential Permit PP-66 to Citizens Utilities Company (now Citizens Communications Company; “Citizens”) for one 120,000-volt (120-kV) electric transmission line that crosses the United States border with Canada near Derby Line, Vermont, and interconnects with similar transmission facilities in Canada owned by Hydro Quebec. On August 21, 2003, Citizens and VELCO (collectively, the “Applicants”) jointly filed an application with DOE to transfer Presidential Permit PP-66 from Citizens to VELCO. VELCO is a Vermont corporation comprised of several electric utilities operating in Vermont (as further described in the application). VELCO currently owns and operates most of the bulk transmission facilities in Vermont, other than those currently owned by Citizens.

VELCO has proposed to purchase from Citizens transmission facilities in northern Vermont, including the international transmission facilities authorized by Presidential Permit PP-66. Notice of the VELCO and Citizens' application to transfer PP-66 appeared in the Federal Register on September 2, 2003, (68 FR 52187) and that matter is still pending.

On September 3, 2003, VELCO applied to amend Presidential Permit PP-66 to authorize a change in the operation of the facilities (“Derby Interconnection Facilities”) as part of VELCO's Northern Loop Project. VELCO claims that the “Northern Loop Project” would improve the reliability of VELCO's bulk transmission system in northern Vermont and that the requested change will reduce peak imports over the Derby Interconnection Facilities from TransEnergie in the Canadian Province of Quebec. In that same application, VELCO also requested that Presidential Permit PP-82 be amended to change the names of the companies that comprise the Joint Owners of the Highgate Project (the permit holder) and to increase the allowable level of imports over the PP-82 facilities to 250 MW.

In its application, VELCO states that the effect of the Northern Loop Project would be to shift load supplied in Northwestern Vermont from the PP-66 facilities to the PP-82 facilities. This would result in a decrease in electricity imports from Canada over the PP-66 facilities and an increase in imports over the PP-82 facilities.

In its application, VELCO states that implementation of the Northern Loop Project may require the following physical modifications:

• Replacement of the existing 48-kilovolt (kV) transmission line between VELCO's Irasburg Substation and the so-called “Mosher's Tap” with a new, double-circuit 115 kV/48 kV line;

• Connection of this line's 115-kV circuit to one circuit of the existing Mosher's Tap-Highgate Substation line, now operated at 120 kV but to be operated thereafter at 115 kV;

• Connection of this 115-kV circuit at Highgate Substation to VELCO's existing 115-kV line from Georgia to Highgate via a new bus constructed at the Highgate Substation;

• Consolidation of VELCO's and Citizens' now-separate substations in Highgate, a project that may also connect the Highgate Interconnection Facilities (north of the converter terminal) to the 120-kV bus in Highgate Substation (the “Highgate Tap”); and,

• Related improvements to VELCO's St. Johnsbury, Irasburg and St. Albans Substations.

Procedural Matters

Any person desiring to become a party to this proceeding or to be heard by filing comments or protests to this application should file a petition to intervene, comment or protest at the address provided above in accordance with §§ 385.211 or 385.214 of the Federal Energy Regulatory Commission's (FERC) Rules of Practice and Procedures (18 CFR 385.211, 385.214). Fifteen copies of each petition and protest should be filed with DOE on or before the date listed above.

Comments on VELCO's application to amend the Presidential Permit PP-66 for the Derby Interconnection Facilities should be clearly marked with Docket PP-66-2. Comments on VELCO's application to amend Presidential Permit PP-82 should be clearly marked with Docket PP-82-3. Additional copies are to be filed directly with L. Russell Mitten, Esq., V.P., General Counsel, Citizens Communications Company, 3 High Ridge Park, Stamford, CT 06905; Mr. Gary Parker, V.P., Director of Planning, Engineering, Construction and Transmission, Vermont Electric Power Company, Inc., 366 Pinnacle Ridge Road, Rutland, VT 05701; AND Kenneth G. Hurwitz, Esq., Haynes and Boone, LLP, 550 11th Street, NW., Suite 650, Washington, DC 20004-1314; and John H. Marshall, Esq., Downs Rachlin Martin PLLC, 90 Prospect Street, P.O. Box 99, St. Johnsbury, VT 05819-0099.

Before a Presidential permit may be issued or amended, DOE must determine that the proposed action will not adversely impact on the reliability of the U.S. electric power supply system. In addition, DOE must consider the environmental impacts of the proposed action (i.e., granting the Presidential permit with any conditions and limitations, or denying it) pursuant to the National Environmental Policy Act of 1969. DOE also must obtain the concurrence of the Secretary of State and the Secretary of Defense before taking final action on a Presidential permit application.

Copies of these applications will be made available, upon request, for public inspection and copying at the address provided above or by accessing the Electricity Regulation home page at http://www.fe.doe.gov/programs/electricityregulation/. Select “Pending Proceedings” from the options menu.

Issued in Washington, DC, on October 3, 2003.
Anthony J. Como,
Deputy Director, Electric Power Regulation, Office of Coal & Power Import/Export, Office of Coal & Power Systems, Office of Fossil Energy.

[FR Doc. 03-25620 Filed 10-8-03; 8:45 am]

BILLING CODE 6450-01-P